SECURITIES AND EXCHANGE COMMISSION

[Release No. 34-74642; File No. SR-NYSE-2014-59]

Self-Regulatory Organizations; New York Stock Exchange LLC; Notice of Withdrawal of a Proposed Rule Change, as Modified by Partial Amendment No. 1, Amending Rule 13 and Related Rules Governing Order Types and Modifiers

April 3, 2015.

On November 14, 2014, New York Stock Exchange LLC (“Exchange”) filed with the Securities and Exchange Commission (“Commission”), pursuant to Section 19(b)(1) of the Securities Exchange Act of 1934 (“Act”) ¹ and Rule 19b-4 thereunder,² a proposed rule change to amend Exchange Rule 13 and other Exchange rules governing order types and order modifiers. The proposed rule change was published in the Federal Register on December 4, 2014.³ On December 22, 2014, the Exchange submitted Partial Amendment No. 1 to the Commission.⁴ On January 14, 2015, pursuant to Section 19(b)(2) of the Act,⁵ the Commission designated a longer period within which to approve the proposed rule change, disapprove the proposed rule change, or institute proceedings to determine whether to disapprove the proposed rule change.⁶ On February 26, 2014, the Exchange withdrew the proposal SR-NYSE-2014-59.

¹ 15 U.S.C. 78s(b)(1).

² 17 CFR 240.19b-4.

³ See Securities Exchange Act Release No. 73703 (December 4, 2014), 79 FR 72039.

⁴ The Exchange also submitted a copy of the amendment to the public comment file. See letter from Martha Redding, Chief Counsel, New York Stock Exchange, to Kevin M. O'Neill, Deputy Secretary, Commission, dated December 22, 2014.

⁵ 15 U.S.C. 78s(b)(2).

⁶ See Securities Exchange Act Release No. 74051, 80 FR 2983 (Jan. 21, 2015). The Commission designated March 4, 2015, as the date by which it should approve, disapprove, or institute proceedings to determine whether to disapprove the proposed rule change.

⁷ 17 CFR 200.30-3(a)(12).

For the Commission, by the Division of Trading and Markets, pursuant to delegated authority.⁷
Brent J. Fields,
Secretary.

[FR Doc. 2015-08107 Filed 4-8-15; 8:45 am]

BILLING CODE 8011-01-P